DEPARTMENT OF THE INTERIOR

Fish and Wildlife Service

[FWS-R3-ES-2014-N122; FXES11120300000-145-FF03E00000]

Notice of Availability of Draft Habitat Conservation Plan; Receipt of Application for Incidental Take Permit; Pioneer Trail Wind Farm, LLC

AGENCY: Fish and Wildlife Service, Interior.

ACTION: Notice of availability.

SUMMARY: Pursuant to the Endangered Species Act (ESA) and the National Environmental Policy Act (NEPA), we, the U.S. Fish and Wildlife Service (Service), have received an incidental take permit (ITP) application, draft habitat conservation plan (HCP), and a draft Implementing Agreement (IA) from Pioneer Trail Wind Farm, LLC (applicant), located in Ford and Iroquois Counties, Illinois. If approved, the ITP would authorize incidental take of two species of bats (covered species): the Indiana bat, a federally endangered species, and northern long-eared bat, proposed for Federal listing under the ESA. In accordance with the NEPA, the Service has prepared a draft Environmental Assessment (EA) in response to the permit application. We invite public comment on the ITP application, draft HCP, draft IA, and draft EA.

DATES: To ensure consideration, please send your written comments on or before September 22, 2014.

ADDRESSES: Send written comments via U.S. mail to the Field Supervisor, U.S. Fish and Wildlife Service, Rock Island Field Office, 1511 47th Avenue, Moline, IL 61265; by facsimile to 309-757-5807; or by electronic mail to RockIsland@fws.gov.

FOR FURTHER INFORMATION CONTACT: Amber Schorg, 309-757-5800, extension 222.

SUPPLEMENTARY INFORMATION:

Introduction

Pursuant to section 10(a)(1)(B) of the Endangered Species Act (ESA; 16 U.S.C. 1531 et seq.) and the National Environmental Policy Act (NEPA; 42 U.S.C. 4321, et seq.), we, the U.S. Fish and Wildlife Service (Service), have received an application from Pioneer Trail Wind Farm, LLC (applicant), located in Ford and Iroquois Counties, Illinois, for an incidental take permit (ITP) under the ESA. If approved, the ITP would authorize incidental take of two species of bats (covered species): the federally endangered Indiana bat (Myotis sodalis) and northern long-eared bat (Myotis septentrionalis), a species proposed for Federal listing under the ESA. The application includes a draft habitat conservation plan (HCP) and a draft Implementing Agreement (IA). Those documents describe the actions and measures the applicant will take to minimize, mitigate, and monitor take of covered species, and the assurances the applicant will provide should the ITP be issued. In accordance with the NEPA, the Service has prepared a draft Environmental Assessment (EA) in response to the ITP application. We invite public comment on the application, draft HCP, draft IA, and draft EA.

Background

Section 9 of the ESA and its implementing regulations prohibit the “take” of animal species listed as endangered or threatened. Take is defined under the ESA as to “harass, harm, pursue, hunt, shoot, wound, kill, trap, capture, or collect listed animal species, or to attempt to engage in such conduct” (16 U.S.C. 1538). However, under section 10(a) of the ESA, the Service may issue permits to authorize incidental take of listed species. “Incidental take” is defined by the ESA as take that is incidental to, and not the purpose of, carrying out an otherwise lawful activity.

Requested Permit

The applicant is seeking a permit for incidental take of three individual Indiana bats and two individual northern long-eared bats (hereafter, “covered species”) per year; such take may result from operation, maintenance, and decommissioning of an existing 94-turbine wind facility over a 43-year period. The ITP would also cover potential impacts associated with species mitigation, which would include gating and stabilization of high-priority Indiana bat hibernacula, and protection, restoration, enhancement, and long-term management of summer habitat for both species. While the exact location of land proposed as summer habitat mitigation has yet to be finalized, it is likely to occur in Alexander, Champaign, Ford, Hardin, and/or Vermillion Counties, Illinois.

Before the Service can issue a permit to the applicant, it must first confirm that:

• Take will be incidental to an otherwise lawful activity.

• The applicant will, to the maximum extent practicable, minimize and mitigate the impacts of such taking.

• The applicant will ensure that adequate funding for the plan will be provided.

• The taking will not appreciably reduce the likelihood of the survival and recovery of the overall species in the wild.

• Other measures required by the Service in the plan will be met, and there are assurances that the plan will be implemented.

Request for Comments

The Service invites comments and suggestions from all interested parties on the draft documents associated with the permit application. In particular, comments and suggestions regarding whether the draft HCP sufficiently minimizes and mitigates potential impacts associated with take of covered species and any additional information pertinent to evaluation of NEPA alternatives and impacts associated with the proposed federal action, would be appreciated.

Public Availability of Comments

Written comments we receive become part of the public record associated with this action. Before including your address, phone number, email address, or other personal identifying information in your comment, you should be aware that the entire comment, including your personal identifying information, may be made available at any time. While you can ask us in your comment to withhold your personal identifying information from public review, we cannot guarantee that we will be able to do so.

Authority

We provide this notice under section 10(c) of the ESA (16 U.S.C. 1531 et seq.) and its implementing regulations (50 CFR 17.22), and NEPA (42 U.S.C. 4371 et seq.) and its implementing regulations (40 CFR 1506.6; 43 CFR Part 46).

Dated: June 25, 2014.
Lynn Lewis,
Assistant Regional Director, Ecological Services, Midwest Region.

[FR Doc. 2014-18590 Filed 8-5-14; 8:45 am]

BILLING CODE 4310-55-P